DEPARTMENT OF ENERGY

Federal Energy Regulatory Commission

Notice of Application for Amendment of License and Soliciting Comments, Motions To Intervene, and Protests

January 27, 2000. a. Application Type: Application to Amend License for the River Mountain Pumped Storage Project.

b. Project No: 10455-016.

c. Date Filed: December 7, 1999 and January 19, 2000.

d. Applicant: JDJ Energy Company.

e. Name of Project: River Mountain Pumped Storage Project.

f. Location: The project will be located adjacent to Lake Dardanelle, on the Arkansas River in Logan County, Arkansas. Lake Dardanelle is a federally-owned reservoir managed by the U.S. Department of the Army, Corps of Engineers.

g. Filed Pursuant to: Federal Power Act, 16 U.S.C. 791(a)-825(r).

h. Applicant Contact: Mr. Arthur Hagood, Synergics Energy Services, LLC, Synergics Center, 191 Main Street, Annapolis, MD 21401, (410) 268-8820.

i. FERC Contact: Any questions on this notice should be addressed to Paul Shannon at (202) 219-2866 or by e-mail at paul.shannon@ferc.fed.us.

j. Deadline for filing comments and/or motions: March 7, 2000. Please include the project number (10455-016) on any comments or motions filed.

k. Description of Filing: JDJ Energy Company (JDJ) filed an application to revise the authorized configuration of several features. The project is authorized to pass water between Lake Dardanelle and a new reservoir at the summit of River Mountain for pumped storage generation. Under the licensed configuration, flows will travel through a concrete-lined water conduit, powerhouse, and tailrace tunnel, all located underground, between Lake Dardanelle and the new reservoir.

In the application, JDJ proposes to construct the powerhouse control room and service facilities at ground level and drill a vertical shaft to the position of the pumps/turbines, about 400 feet below grade. The powerhouse would be located about 2,500 feet closer to Lake Dardanelle then currently authorized. JDJ also proposes to slightly increase the capacity of the upper reservoir, allowing a maximum reservoir elevation of 1,010 feet instead of the authorized 1,007 feet.

l. Locations of the Application: A copy of the application is available for inspection and reproduction at the Commission's Public Reference Room. located at 888 First Street, NE, Room 2A, Washington, DC 20426, or by calling (202) 208-1371. This filing may be viewed on http://www.ferc.fed.us/online/rims.htm [call (202) 208-2222 for assistance]. A copy is available for inspection and reproduction at the address in item h above.

m. Individuals desiring to be included on the Commission's mailing list should so indicate by writing to the Secretary of the Commission.

Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

Filing and Service of Responsive Documents—Any filings must bear in capital letters the title “COMMENTS”, “RECOMMENDATIONS FOR TERMS AND CONDITIONS”, “PROTEST”, or “MOTION TO INTERVENE”, as applicable, and the Project Number of the particular application to which the filing refers. Any of the above-named documents must be filed by providing the original and the number of copies provided by the Commission's regulations to: The Secretary, Federal Energy Regulatory Commission, 888 First Street, NE, Washington, DC 20426. A copy of any motion to intervene must also be served upon each representative of the Applicant specified in the particular application.

Agency Comments—Federal, state, and local agencies are invited to file comments on the described application. A copy of the application may be obtained by agencies directly from the Applicant. If an agency does not file comments within the time specified for filing comments, it will be presumed to have no comments. One copy of an agency's comments must also be sent to the Applicant's representatives.

David P. Boergers,
Secretary,

[FR Doc. 00-2189 Filed 2-1-00; 8:45 am]

BILLING CODE 6717-01-M